DEPARTMENT OF JUSTICE

Notice of Lodging of Consent Decree Pursuant to The Clean Water Act

In accordance with 28 CFR 50.7, 38 FR 19029, notice is hereby given that on May 31,007, a Consent Decree was lodged with the United States District Court for the District of Massachusetts in United States v. Town of Billerica, Civil Action No. 07-11015. A complaint in the action was also filed simultaneously with the lodging of the Consent Decree. In the complaint the United States, on behalf of the U.S. Environmental Protection Agency (EPA) alleges that the defendant Town of Billerica (“Town” or “Billerica”) violated the Clean Water Act, 33 U.S.C. 1251, et seq., (“CWA”) at its Water Treatment and Waste Water Treatment Facilities (the, “Water Facilities”). The violations alleged in the complaint include discharges of process waste water without a permit; violations of EPA storm water permitting requirements; and violation of effluent limits and monitoring and reporting requirements of its individual permits. The Consent Decree requires Billerica to pay a civil penalty of $250,000; achieve compliance with applicable provisions of the CWA; expend at least $50,000 on two supplemental environmental projects; and, undertake compliance audits with respect to the Town's Water Facilities.

The Department of Justice will receive comments relating to the proposed Consent Decree for a period of thirty (30) days from the date of this publication. Comments should be addressed to the Assistant Attorney General, Environmental and Natural Resources Division, and either e-mailed to pubcomment-ees.enrd@usdoj.gov or mailed to P.O. Box 7611, Washington, DC 20044, and should refer to United States v. Town of Billerica, D.J. Ref. 90-5-1-08192.

The proposed Consent Decree may be examined at the office of the United States Attorney, Suite 9200, 1 Courthouse Way, Boston, Massachusetts 02110, and at the Region I office of the Environmental Protection Agency, One Congress Street, Suite 1100, Boston, Massachusetts 02114. During the public comment period, the proposed Consent Decree may also be examined on the following Department of Justice Web site, http://www.usdoj.gov/enrd/COnsent_Decrees.html. In addition, a copy of the proposed consent decree may also be obtained by mail from the Department of Justice Consent Decree Library by faxing or e-mailing a request to Tonia Fleetwood (tonia.fleetwood@usdoj.gov), fax no. (202) 514-0097, phone confirmation number (202) 514-1547. In requesting a copy of the Consent Decree from the Consent Decree Library, please enclose a check (there is a 25 cent per page reproduction cost) in the amount of $14 payable to the U.S. Treasury or, if by e-mail or fax, forward a check in that amount to the Consent Decree Library at the stated address.

Ronald G. Gluck
Assistant Chief, Environmental Enforcement Section, Environmental & Natural Resources Division.

[FR Doc. 07-2930 Filed 6-13-07; 8:45 am]

BILLING CODE 4410-15-M